DEPARTMENT OF JUSTICE

Notice of Lodging of Settlement Agreement Under the Clean Water Act

Notice is hereby given that, for a period of 30 days, the United States will receive public comments on a proposed Consent Decree in United States v. Magellan Pipeline Company L.P. (Civil Action No. 08-CV2272 JAR/DJW), which was lodged with the United States District Court for the District of Kansas on June 16, 2008. This proposed Consent Decree was lodged simultaneously with the Complaint in this Clean Water Act case against Magellan Pipeline Company, L.P.

The Complaint alleges that Magellan is civilly liable for violation of the Clean Water Act (“CWA”), 33 U.S.C. 1251 et seq., as amended by the Oil Pollution Act of 1990 (“OPA”), 33 U.S.C. 2701 et seq. The Complaint seeks civil penalties and injunctive relief for eleven discharges of gasoline, diesel fuel and other petroleum products into navigable waters of the United States or adjoining shorelines from the Pipeline in the states of Kansas, Iowa, Minnesota, Illinois and Arkansas. The Complaint also alleges that Defendant violated EPA's Spill Prevention, Containment and Countermeasure regulations issued pursuant to section 311(j) of the CWA, 33 U.S.C. 1321(j), at two terminal facilities located in Roca, Nebraska and Coralville, Iowa. Under the settlement, Magellan will pay a civil penalty of $5.3 million. In addition, the settlement requires Magellan to undertake various measures aimed to prevent and expedite detection of pipeline leaks and ruptures.

Comments should be addressed to the Assistant Attorney General, Environment and Natural Resources Division, and may be submitted to: P.O. Box 7611, U.S. Department of Justice, Washington, DC 20044-7611, or via e-mail to pubcomment-ees.enrd@usdoj.gov, and should refer to United States v. Magellan Pipeline Company, L.P., D.J. Ref. 90-5-1-1-06074/3.

The Consent Decree may be examined at the Office of the United States Attorney, District of Kansas, 1200 Epic Center, 301 N. Main, Wichita, KS 67202. During the public comment period the Magellan Consent Decree may also be examined on the following Department of Justice Web site: http://www.usdoj.gov/enrd/Consent_Decrees.html. A copy of the Magellan Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $49.75 (25 cents per page reproduction cost) payable to the U.S. Treasury.

Maureen M. Katz,
Assistant Section Chief, Environmental Enforcement Section, Environment and Natural Resources Division.

[FR Doc. E8-13935 Filed 6-19-08; 8:45 am]

BILLING CODE 4410-15-P